DEPARTMENT OF THE INTERIOR

National Park Service

[NPS-WASO-NRNHL-0412-9934; 2200-3200-665]

National Register of Historic Places; Notification of Pending Nominations and Related Actions

Nominations for the following properties being considered for listing or related actions in the National Register were received by the National Park Service before March 17, 2012. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington DC 20005; or by fax, 202-371-6447. Written or faxed comments should be submitted by April 23, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Maricopa County

Alston, Dr. Lucius Charles, House, 453 N. Pima St., Mesa, 12000240

Pima County

Jefferson Park Historic District, Roughly bounded by Euclid, Grant, Campbell, & alley S. of Lester, Tucson, 12000241

COLORADO

Adams County

Fuller, Granville, House, 2027 Galena St., Aurora, 12000242

ILLINOIS

Cook County

Cermak Road Bridge Historic District, W. Cermak Rd. & S. Branch of Chicago R., Chicago, 12000243

IOWA

Marion County

Knoxville Veterans Administration Hospital Historic District (United States Second Generation Veterans Hospitals), 1515 W. Pleasant St., Knoxville, 12000246

KANSAS

Greenwood County

Jones, Paul, Building (Roadside Kansas MPS), 319 W. River St., Eureka, 12000247

Westside Service Station and Riverside Motel (Roadside Kansas MPS), 325 W. River St., Eureka, 12000248

Lyon County

Emporia Downtown Historic District, Generally bounded by 10th & 3rd Aves., Mechanic & Merchant Sts., Emporia, 12000249

MISSOURI

McDonald County

Old McDonald County Courthouse, 400 N. Main St., Pineville, 12000251

N. MARIANA ISLANDS

Rota Municipality

Chudang Palii Japanese World War II Defensive Complex, Sabena Rd., Sinapalu, 12000250

NEW YORK

Saratoga County

Mohawk Valley Grange Hall, 274 Sugar Hill Rd., Grooms Corners, 12000245

NORTH CAROLINA

Catawba County

Newton Downtown Historic District, Roughly bounded by 2nd & A Sts., N. Forney, & N. Ashe Aves., Newton, 12000253

NORTH DAKOTA

Billings County

Roosevelt's, Theodore, Elkhorn Ranch and Greater Elkhorn Ranchlands, Address Restricted, Medora, 12000252

[FR Doc. 2012-8250 Filed 4-5-12; 8:45 am]

BILLING CODE 4312-51-P